DEPARTMENT OF THE TREASURY

Internal Revenue Service

Open Meeting of the Taxpayer Advocacy Panel Small Business/Self Employed Issue Committee; Correction

AGENCY: Internal Revenue Service (IRS), Treasury.

ACTION: Correction to notice of meeting.

SUMMARY: This document contains a correction to a notice of open meeting of the Taxpayer Advocacy Panel Small Business/Self Employed Issue Committee, which was published in the Federal Register on Thursday, April 30, 2009 (74 FR 20102). This notice is hereby given pursuant to Section 10(a)(2) of the Federal Advisory Committee Act 5 U.S.C. App. (1988) that an open meeting of the Taxpayer Advocacy Panel Small Business/Self Employed Issue Committee will be held.

FOR FURTHER INFORMATION CONTACT: Janice Spinks at 1-888-912-1227 or 206-220-6098.

SUPPLEMENTARY INFORMATION:

Need for Correction

As published, the open meeting of the Taxpayer Advocacy Panel Small Business/Self Employed Issue Committee, contains an error which may prove to be misleading and is in need of clarification.

Correction of Publication

Accordingly, the publication of the open meeting of the Taxpayer Advocacy Panel Small Business/Self Employed Issue Committee, which was the subject of FR Doc. E9-9878, is corrected as follows:

On page 20102, column 2, under the caption SUPPLEMENTARY INFORMATION, lines 8 through 11, the language “Thursday, June 25, 2009 from 8 a.m. to 5 p.m., Friday, June 26, 2009 from 8 a.m. to 5 p.m. and Saturday, June 27, 2009 from 8 a.m. to 12 p.m. Mountain” is corrected to read “Thursday, June 25, 2009 from 1 p.m. to 4:30 p.m., Friday, June 26, 2009 from 8:30 a.m. to 4:30 p.m. and Saturday, June 27, 2009 from 8:30 a.m. to 11:30 a.m. Mountain”.

LaNita Van Dyke,
Chief, Publications and Regulations Branch, Legal Processing Division, Associate Chief Counsel (Procedures and Administration).

[FR Doc. E9-13233 Filed 6-5-09; 8:45 am]

BILLING CODE 4830-01-P